NORTHEAST DAIRY COMPACT COMMISSION

Notice of Meeting

AGENCY: Northeast Dairy Compact Commission.

ACTION: Notice of meeting.

SUMMARY: The Compact Commission will hold its regular monthly meeting to consider matters relating to administration and enforcement of the price regulation. This meeting will be held in Concord, New Hampshire, continuing the Commission's program of holding a meeting in each of the Compact states. In addition to receiving reports and recommendations of its standing Committees, the Commission will receive a number of informational reports about the impact of the over-order price regulation in New Hampshire.

DATES: The meeting will begin at 10 a.m. on Wednesday, September 5, 2001.

ADDRESSES: The meeting will be held at the Courtyard by Marriott, Grappone Conference Center, 70 Constitution Avenue, Concord, New Hampshire 03301.

FOR FURTHER INFORMATION CONTACT: Daniel Smith, Executive Director, Northeast Dairy Compact Commission, 64 Main Street, Room 21, Montpelier, VT 05602. Telephone (802) 229-1941.

Authority: 7 U.S.C. 7256.

Dated: August 22, 2001.
Daniel Smith,
Executive Director.

[FR Doc. 01-21744 Filed 8-28-01; 8:45 am]

BILLING CODE 1650-01-P